FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Office of Agreements (202-523-5793 or http://tradeanalysis@fmc.gov).

Agreement No.: 012006.

Title: HMM/ELJSA Suez Slot Exchange Agreement.

Parties: Hyundai Merchant Marine Co., Ltd. and Evergreen Line Joint Service Agreement.

Filing Party: Eliot J. Halperin, Esq., Manelli Denison & Selter, PLLC, 2000 M Street, NW., 7th Floor, Washington, DC 20036-3307.

Synopsis: The agreement authorizes the parties to exchange slots in the trade between the U.S. East Coast and Asia via the Suez Canal.

Agreement No.: 012007.

Title: APL/CMA CGM South East Asia and Sri Lanka/U.S. East Coast via Suez Slot Charter Agreement.

Parties: APL Co. Pte. Ltd/American President Lines, Ltd. (“APL”) and CMA CGM S.A (“CMA”).

Filing Party: Eric C. Jeffrey, Esq., Goodwin Procter, LLP, 901 New York Avenue, NW., Washington, DC 20001.

Synopsis: The agreement authorizes APL to charter space to CMA on vessels in the trade between the U.S. East Coast, and South East Asia, Sri Lanka, and the United Arab Emirates, via the Suez Canal.

By Order of the Federal Maritime Commission.
Dated: July 13, 2007.
Bryant L. VanBrakle,
Secretary.

[FR Doc. E7-13930 Filed 7-17-07; 8:45 am]

BILLING CODE 6730-01-P